DEPARTMENT OF TRANSPORTATION

Federal Aviation Administration

14 CFR Part 39

[Docket No. FAA-2018-0113; Product Identifier 2017-NM-060-AD]

RIN 2120-AA64

Airworthiness Directives; Airbus SAS Airplanes

AGENCY: Federal Aviation Administration (FAA), DOT.

ACTION: Supplemental notice of proposed rulemaking (SNPRM); reopening of comment period.

SUMMARY: We are revising an earlier proposal to supersede Airworthiness Directive (AD) 2016-12-09, which applies to certain Airbus Model A330-200, -200 Freighter, and -300 series airplanes; and Model A340-200 and -300 series airplanes. This action revises the notice of proposed rulemaking (NPRM) by revising the compliance time for the modification of the inside center wing box (CWB). We are proposing this AD to address the unsafe condition on these products. Since these actions would impose an additional burden over those in the NPRM, we are reopening the comment period to allow the public the chance to comment on these changes.

DATES: The comment period for the NPRM published in the Federal Register on February 26, 2018 (83 FR 8201), is reopened.

We must receive comments on this SNPRM by July 8, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For the material identified in this SNPRM that will be incorporated by reference (IBR), contact the European Aviation Safety Agency (EASA), at Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2018-0113; or in person at Docket Operations between 9 a.m. and 5 p.m., Monday through Friday, except Federal holidays. The AD docket contains this SNPRM, the regulatory evaluation, any comments received, and other information. The street address for Docket Operations (phone: 800-647-5527) is listed above. Comments will be available in the AD docket shortly after receipt.

FOR FURTHER INFORMATION CONTACT: Vladimir Ulyanov, Aerospace Engineer, International Section, Transport Standards Branch, FAA, 2200 South 216th St., Des Moines, WA 98198; telephone and fax: 206-231-3229.

SUPPLEMENTARY INFORMATION:

Comments Invited

We invite you to send any written relevant data, views, or arguments about this proposal. Send your comments to an address listed under the ADDRESSES section. Include “Docket No. FAA-2018-0113; Product Identifier 2017-NM-060-AD” at the beginning of your comments. We specifically invite comments on the overall regulatory, economic, environmental, and energy aspects of this SNPRM. We will consider all comments received by the closing date and may amend this SNPRM based on those comments.

We will post all comments we receive, without change, to http://www.regulations.gov, including any personal information you provide. We will also post a report summarizing each substantive verbal contact we receive about this SNPRM.

Discussion

We issued AD 2016-12-09, Amendment 39-18558 (81 FR 38573, June 14, 2016) (“AD 2016-12-09”). AD 2016-12-09 requires actions to address an unsafe condition on certain Airbus Model A330-200, -200 Freighter, and -300 series airplanes, and Model A340-200 and -300 series airplanes. AD 2016-12-09 requires removing fasteners, doing a rototest inspection of fastener holes, installing new fasteners, oversizing the holes and doing rototest inspections for cracks if necessary, and repairing any cracking that was found.

We issued an NPRM to amend 14 CFR part 39 by adding an AD to supersede AD 2016-12-09 that would apply to certain Airbus Model A330-200, -200 Freighter, and -300 series airplanes; and Model A340-200 and -300 series airplanes. The NPRM published in the Federal Register on February 26, 2018 (83 FR 8201) (“the NPRM”). The NPRM was prompted by reports that cracks were found on an adjacent hole of certain frames of the CWB. The NPRM proposed to require repetitive inspections of the fastener holes at frame (FR) 40, and, for certain airplanes, proposed to require a modification. The NPRM also proposed to provide an optional terminating action, for certain airplanes, which terminates the inspections.

Actions Since the NPRM was Issued

Since we issued the NPRM, we have determined that the compliance time for the modification of the inside CWB must be revised.

The EASA, which is the Technical Agent for the Member States of the European Union, has issued EASA AD 2018-0249, dated November 16, 2018 (“EASA AD 2018-0249”) (also referred to after this as the Mandatory Continuing Airworthiness Information, or “the MCAI”), to correct an unsafe condition for certain Airbus Model A330-200, -200 Freighter, and -300 series airplanes; and Model A340-200 and -300 series airplanes. The MCAI states:

During accomplishment of A330 Airworthiness Limitation Item (ALI) task 57-11-04 on the rear fitting of the Frame (FR) 40 between stringers (STR) 38 and STR39 on both left-hand (LH) and right-hand (RH) sides of the fuselage, cracks were found on an adjacent hole. After reaming at second oversize of the subject hole, the crack was still present. As a result of a sampling inspection program, additional crack findings were reported on this adjacent hole on other A330 and A340 aeroplanes.

This condition, if not detected and corrected, could affect the structural integrity of the centre fuselage of the aeroplane.

Prompted by these findings, Airbus issued the applicable Inspection [service bulletin] SB (at the time, all at original issue) to provide inspection instructions and, consequently, EASA issued AD 2014-0149 [which corresponds to FAA AD 2016-12-09] to require removal of the fasteners and repetitive special detailed inspections (SDI), including rototests, of fastener holes at FR40 vertical web above or below CWB lower panel reference on both LH and RH sides of the fuselage, and, depending on findings, accomplishment of the applicable corrective actions. That [EASA] AD did not apply to aeroplanes on which Airbus modification (mod) 55792 or mod 55306 had been embodied in production.

After that [EASA] AD was issued, Airbus published SB A330-57-3115 Revision 01 and SB A340-57-4124 Revision 02, which introduced revised thresholds and intervals for the repetitive inspections of the inside CWB (above bottom skin). In addition, for certain aeroplanes, Airbus developed mod 206051, introducing reinforcement of the structural integrity of the inside CWB (above bottom skin) area, and published the applicable Modification SB (both original issue), which avoided the need for repetitive inspections for the inside of the CWB for those aeroplane. Airbus also published SB A330-57-3116 Revision 01 and SB A340-57-4125 Revision 01, to include aeroplanes in post-mod 44360 and post-mod 49202 configuration for inspections of the outside CWB (below bottom skin), and introduced revised thresholds and intervals for the repetitive inspections of the outside CWB, and to provide an alleviation of the number of holes to be inspected. The repetitive inspection program for aeroplanes in pre-mod 44360 configuration remained unchanged.

Consequently, EASA issued AD 2017-0069 [which corresponds to the FAA NPRM], partially retaining the requirements of EASA AD 2014-0149, which was superseded, to require new repetitive SDI (which include rototests) of the fastener holes at FR40 of the inside and the outside CWB (above and below bottom skin), and the implementation of the modification of the inside CWB.

Since that [EASA] AD was issued, Airbus finalised an inspection program for A330-200F aeroplanes and published SB A330-57-3116 Revision 02, SB A330-57-3132 Revision 01 and SB A330-57-3129 Revision 01 accordingly. Airbus also published the applicable Modification SB, introducing a lower threshold for the modification, which allows operation to the Extended Service Goal (ESG) objective without any additional inspections. For the same reason, Airbus issued SB A330-57-3115 Revision 02, SB A330-57-4124 Revision 03, SB A330-57-3130 Revision 01 and SB A340-57-4137 Revision 01, for aeroplanes in post-mod 206050 configuration. Finally, it was determined that the lower threshold for embodiment of the applicable Modification SB must be counted from aeroplane first flight, not since Airbus mod 206049 implementation, as previously indicated.

For the reasons described above, this [EASA] AD retains the requirements of EASA AD 2017-0069, which is superseded, extends the compliance time for A330-200F aeroplanes as no accomplishment instructions existed before, adds references to the latest Airbus SB revisions, introduces a window of embodiment for modification of the inside CWB, as well as a correction of the window of embodiment for the applicable Optional Modification SB.

You may examine the MCAI in the AD docket on the internet at http://www.regulations.gov by searching for and locating Docket No. FAA-2018-0113.

Explanation of Retained Requirements

Although this proposed AD does not explicitly restate the requirements of AD 2016-12-09, this proposed AD would retain certain of the requirements of AD 2016-12-09. Those requirements are referenced in EASA 2018-0249, which, in turn, is referenced in paragraph (g) of this proposed AD.

Related IBR Material Under 1 CFR Part 51

EASA AD 2018-0249 describes procedures for repetitive inspections of the fastener holes at FR40 vertical web of the affected CWB lower panel area for any cracking, and on-condition actions; modification of the inside CWB and an optional terminating action (modification of fastener holes by cold-working), which terminates the repetitive inspections. On-condition actions include installing new fasteners, additional inspections, repair, and modification. This material is reasonably available because the interested parties have access to it through their normal course of business or by the means identified in the ADDRESSES section.

Comments

We gave the public the opportunity to participate in developing this proposed AD. We considered the comments received.

Request To Use the Latest Service Information

American Airlines (AAL) and Delta Airlines (DAL) requested that we use the latest service information in the NPRM. AAL also requested that we provide credit for earlier revisions of certain service information.

We agree with the commenters request. We have revised this proposed AD to refer to EASA AD 2018-0249, dated November 16, 2018, which specifies the latest service information required to complete the actions specified in this proposed AD. EASA AD 2018-0249 also provides credit for earlier revisions of the applicable service information.

Request To Remove Certain Language From the NPRM

DAL requested that we remove the “pre-mod” and “post-mod” language from the NPRM. DAL stated that paragraph (g) of the proposed AD (in the NPRM) defines accomplishment of repetitive inspections using Airbus Service Bulletin A330-57-3114, Airbus Service Bulletin A330-57-3115, Airbus Service Bulletin A330-57-3116, Airbus Service Bulletin A340-57-4123, Airbus Service Bulletin A330-57-4124, and Airbus Service Bulletin A340-57-4125. DAL stated that each subparagraph in paragraph (g) of the proposed AD (in the NPRM) tries to address the affected airplanes using language such as “pre-mod 56306 and pre-mod 55792.”

DAL commented that it finds the pre-mod and post-mod language confusing and finds the effectivity in the service information more clear. DAL stated that in order to clarify the NPRM, it recommended that the NPRM state something such as, “for A330-200 and -300 series airplanes as listed in the effectivity of the SB.” DAL stated that it believes this clarification would also apply to paragraphs (m), (o), and (p) of the proposed AD (in the NPRM).

We agree to clarify. The intent of paragraph (g) of the proposed AD (in the NPRM) was to provide additional details about which service information was applicable for the specified actions in the proposed AD, including which service information applied to specific airplane configurations. Paragraphs (m), (o) and (p) of the proposed AD (in the NPRM) also specified the airplane configuration for which the specified actions are applicable, which was intended to help operators determine which actions were applicable to a given airplane.

As we stated previously, we have revised this proposed AD to refer to EASA AD 2018-0249, dated November 16, 2018, which specifies which actions are applicable for which airplane configurations. EASA AD 2018-0249 has redefined configurations and clarified the “pre-mod” and “post-mod” language.

Request To Remove the Word “and” From a Certain Paragraph in the Proposed AD

DAL requested that we remove the word “and” from paragraph (g)(1)(iii) of the proposed AD (in the NPRM) where it discusses accomplishment of Airbus Service Bulletin A330-57-3115 for airplanes “in pre-mod 56306 and pre-mod 55792 configuration.” DAL stated that normally the interpretation of the word “and” would mean those airplanes which are both pre-mod 56306 and pre-mod 55792. DAL commented that it has many airplanes in one group or the other, but no airplanes which are both pre-mod 56306 and pre-mod 55792.

DAL stated that its airplanes are specified in the effectivity paragraph of the service information, and it was able to determine that the “and” was intended to mean those airplanes which are either pre-mod 56306 or pre-mod 55792. DAL commented that EASA AD 2017-0069 refers to the modification numbers in the reason section of the service information, but thereafter refers to the service information effectivity, which avoids the confusion of the interpretation of “and” in the text.

We agree with the commenter's request. As we stated previously, we have revised this proposed AD to refer to EASA AD 2018-0249, dated November 16, 2018, which clarifies airplane configurations. EASA AD 2018-0249 does not include the language DAL commented on.

Request To Revise the Grace Period From 18 Months to 24 Months

DAL requested that we revise the grace period for the modification specified in paragraph (m) of the proposed AD (in the NPRM) from 18 months to 24 months. DAL stated that paragraph (m) of the proposed AD (in the NPRM) specifies to do the modification using Airbus Service Bulletin A330-57-3129, which calls for modification within the limits of the service information, or within a grace period of 18 months after the effective date of the AD. DAL commented that its hangar check visit interval is 24 months. DAL stated that it believes that the hangar aviation maintenance technicians have more structural repair experience and that the quality of the work would be greater if the experienced hangar crew could do the work. DAL also stated that the grace period in table 1 to paragraph (h) of the proposed AD (in the NPRM) would also need to be revised.

We disagree with the commenter's request. The grace period, as part of the compliance time, is established by EASA to mitigate the unsafe condition. In developing the compliance time for this proposed AD action, we considered not only the safety implications of the identified unsafe condition, but the average utilization rate of the affected fleet, the practical aspects of an orderly modification of the fleet during regular maintenance periods, the availability of required parts, and the time necessary for the rulemaking process. The proposed compliance time following the effective date of the final rule was determined to be appropriate. We have not changed this proposed AD in this regard.

Request To Remove Paragraph (o)(1) of the Proposed AD (in the NPRM)

DAL requested paragraph (o)(1) of the proposed AD (in the NPRM) be removed. DAL stated that paragraph (o)(1) of the proposed AD (in the NPRM) addressed the modification of post-mod 44360 airplanes, which are those affected by the inspection in Airbus Service Bulletin A330-57-3116 and terminated by Airbus Service Bulletin A330-57-3132.

DAL also stated that paragraph (o)(1) of the proposed AD (in the NPRM) includes a provision that requires that the modification be accomplished within the applicable compliance times specified in paragraph (g)(1) of the proposed AD (in the NPRM), which is the repetitive inspection specified in Airbus Service Bulletin A330-57-3116. DAL commented that this means that the option to terminate exists only up to the limit specified in Airbus Service Bulletin A330-57-3116. DAL also commented that after the initial accomplishment of inspections specified in Airbus Service Bulletin A330-57-3116 and while doing the repetitive inspections specified in Airbus Service Bulletin A330-57-3116, the optional terminating action specified in Airbus Service Bulletin A330-57-3132 no longer exists. DAL stated that it does not find a similar requirement in EASA AD 2017-0069, and it is not clear about why such a requirement would be technically required.

We agree to clarify. Paragraph (o)(1) of the proposed AD (in the NPRM) describes an optional terminating action for a certain airplane configuration subject to repetitive inspections in accordance with paragraph (h) of the proposed AD (in the NPRM). This is the same action specified in paragraph (8) of EASA AD 2017-0069 (and paragraph (13) of EASA AD 2018-0249), which is part of the proposed requirements in paragraph (g) of this SNPRM. To address the unsafe condition, the modification specified in Airbus Service Bulletin A330-57-3132 must be accomplished at the time specified in Airbus Service Bulletin A330-57-3116, which describes a lower bound (limit) of flight cycles or flight hours since first flight of the airplane. Airbus Service Bulletin A330-57-3116 does not remove the option for the modification once an operator has begun doing the repetitive inspections on an airplane, but instead allows the option of doing the modification before further flight after an inspection is accomplished. We have not changed this proposed AD in this regard.

Request To Add Manufacturer Serial Numbers to the NPRM

DAL requested that we add manufacturer serial numbers to paragraph (q)(3) of the proposed AD (in the NPRM). DAL stated that the paragraph lists several Airbus Technical Dispositions, but it was unable to find those Airbus Technical Dispositions on the Airbus website. DAL also commented that its local Airbus representatives were unable to find those Airbus Technical Dispositions.

DAL stated that it submitted a request to Airbus and was told that these are individual repairs to individual airplanes per a telex. DAL stated that since the Airbus Technical Dispositions are not readily available, the inclusion of that Airbus Technical Dispositions specified in the NPRM would require each operator to submit a telex requesting clarification. DAL commented that if the NPRM is updated with a list of affected manufacturer serial numbers, each operator could review the list of manufacturer serial numbers, and if the operator does not have any manufacturer serial numbers on the list, the rest of the paragraph would not apply to the operator.

We agree with the commenter's request. We have revised paragraph (i) of this proposed AD to specify the affected manufacturer serial numbers for each Airbus Technical Disposition.

FAA's Determination

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the NPRM. As a result, we have determined that it is necessary to reopen the comment period to provide additional opportunity for the public to comment on this SNPRM.

Proposed Requirements of This SNPRM

This proposed AD would require accomplishing the actions specified in EASA AD 2018-0249 described previously, as incorporated by reference, except for any differences identified as exceptions in the regulatory text of this AD.

Explanation of Required Compliance Information

In the FAA's ongoing efforts to improve the efficiency of the AD process, the FAA worked with Airbus and EASA to develop a process to use certain EASA ADs as the primary source of information for compliance with requirements for corresponding FAA ADs. As a result, EASA AD 2018-0249 will be incorporated by reference in the FAA final rule. This proposed AD would, therefore, require compliance with the provisions specified in EASA AD 2018-0249, except for any differences identified as exceptions in the regulatory text of this proposed AD. Service information specified in EASA AD 2018-0249 that is required for compliance with EASA AD 2018-0249 will be available on the internet at http://www.regulations.gov by searching for and locating Docket No. FAA-2018-0113 after the FAA final rule is published.

Costs of Compliance

We estimate that this proposed AD affects 103 airplanes of U.S. registry.

We estimate the following costs to comply with this proposed AD:

Estimated Costs for Required Actions
Action | Labor cost | Parts cost | Cost per product | Cost on U.S. operators
Retained actions from AD 2016-12-09 | Up to 155 work-hours × $85 per hour = $13,175 | $0 | Up to $13,175 | Up to $1,357,025.
New proposed actions | Up to 145 work-hours × $85 per hour = $12,325 | Up to $650 | Up to $12,975 | Up to $1,336,425.

Estimated Costs for Optional Actions
Labor cost | Parts cost | Cost per product
Up to 145 work-hours × $85 per hour = $12,325 | Up to $621 | Up to $12,946.

We estimate the following costs to do any necessary on-condition actions that would be required based on the results of any required actions. We have no way of determining the number of aircraft that might need these on-condition actions:

Estimated costs of On-Condition Actions
Labor cost | Parts cost | Cost per product
Up to 105 work-hours × $85 per hour = $8,925 | Up to $22,488 | Up to $31,413.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-12-09, Amendment 39-18558 (81 FR 38573, June 14, 2016), and adding the following new AD:

Airbus SAS: Docket No. FAA-2018-0113; Product Identifier 2017-NM-060-AD.

(a) Comments Due Date

We must receive comments by July 8, 2019.

(b) Affected ADs

This AD replaces AD 2016-12-09, Amendment 39-18558 (81 FR 38573, June 14, 2016) (“AD 2016-12-09”).

(c) Applicability

This AD applies to Airbus SAS Model airplanes identified in paragraphs (c)(1) through (c)(5) of this AD, certificated in any category, as identified in European Aviation Safety Agency (EASA) AD 2018-0249, dated November 16, 2018 (“EASA AD 2018-0249”).

(1) Model A330-201, -202, -203, -223, and -243 airplanes.

(2) Model A330-223F and -243F airplanes.

(3) Model A330-301, -302, -303, -321, -322, -323, -341, -342, and -343 airplanes.

(4) Model A340-211, -212, and -213 airplanes.

(5) Model A340-311, -312, and -313 airplanes.

(d) Subject

Air Transport Association (ATA) of America Code 57, Wings.

(e) Reason

This AD was prompted by reports that cracks were found on an adjacent hole of certain frames of the center wing box (CWB) and a determination that the compliance time specified in AD 2016-12-09 for the modification of the inside CWB must be revised. We are issuing this AD to address cracking of certain holes of certain frames of the CWB, which could affect the structural integrity of the airplane.

(f) Compliance

Comply with this AD within the compliance times specified, unless already done.

(g) Requirements

Except as specified in paragraph (h) of this AD: Comply with all required actions and compliance times specified in, and in accordance with, EASA AD 2018-0249.

(h) Exceptions to EASA AD 2018-0249

(1) For purposes of determining compliance with the requirements of this AD: Where EASA AD 2018-0249 refers to its effective date or the effective date of EASA AD 2017-0069, this AD requires using the effective date of this AD.

(2) For purposes of determining compliance with the requirements of this AD: Where EASA AD 2018-0249 refers to the effective date of EASA AD 2014-0149, this AD requires using June 29, 2016 (the effective date of AD 2016-12-09).

(3) The “Remarks” section of EASA AD 2018-0249 does not apply to this AD.

(i) Reference to Manufacturer Serial Numbers for Airbus Technical Dispositions

Figure 1 to paragraph (i) of this AD identifies the Airbus Technical Dispositions specified in paragraph (9) of EASA AD 2018-0249 and their associated manufacturer serial numbers.

(j) Terminating Action for AD 2016-12-09

Accomplishing the actions required by this AD terminates all requirements of AD 2016-12-09.

(k) No Reporting Requirement

Although the service information referenced in EASA AD 2018-0249 specifies to submit certain information to the manufacturer, this AD does not include that requirement.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0249 that contains RC procedures and tests: Except as required by paragraph (l)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) For information about EASA AD 2018-0249, contact the EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2018-0249 may be found in the AD docket on the internet at http://www.regulations.gov by searching for and locating Docket No. FAA-2018-0113.

(2) For more information about this AD, contact Vladimir Ulyanov, Aerospace Engineer, International Section, Transport Standards Branch, FAA, 2200 South 216th St., Des Moines, WA 98198; telephone and fax: 206-231-3229.

Issued in Des Moines, Washington, on May 6, 2019.
Dionne Palermo,
Acting Director, System Oversight Division, Aircraft Certification Service.

[FR Doc. 2019-10654 Filed 5-22-19; 8:45 am]

BILLING CODE 4910-13-P